DEPARTMENT OF LABOR

Employment and Training Administration

[TA-W-38,690; TA-W-38,690A]

C-Cor.Net Corp; Amended Certification Regarding Eligibility To Apply for Worker Adjustment Assistance

In accordance with section 223 of the Trade Act of 1974 (19 U.S.C 2273) the Department of Labor issued a Certification of Eligibility to Apply for Worker Adjustment Assistance on March 6, 2001, applicable to workers of C-Cor.net Corporation, State College, Pennsylvania. The notice was published in the Federal Register on April 5, 2001 (66 FR 18117).

At the request of the petitioners, the Department reviewed the certification for workers of the subject firm. New information shows that worker separations occurred at the Tipton, Pennsylvania facility of C-Cor.net Corporation. The workers are engaged in employment related to the production of cable television amplifiers.

Accordingly, the Department is amending the certification to cover works of C-Cor.net Corporation, Tipton, Pennsylvania.

The intent of the Department's certification is to include all workers of C-Cor.net Corporation adversely affected by increased imports.

The amended notice applicable to TA-W-38,690 is hereby issued as follows:

All workers of C-Cor.net Corporation, State College, Pennsylvania (TA-W-38,690) and Tipton, Pennsylvania, Pennsylvania (TA-W-38,690A) who became totally or partially separated from employment on or after February 6, 2000 through March 6, 2003 are eligible to apply for adjustment assistance under Section 223 of the Trade Act of 1974.

Signed at Washington DC this 30th day of May, 2001.
Linda G. Poole,
Certifying Officer, Division of Trade Adjustment Assistance.

[FR Doc. 01-15038 Filed 6-13-01; 8:45 am]

BILLING CODE 4510-30-M